DEPARTMENT OF AGRICULTURE

Rural Business-Cooperative Service

Rural Housing Service

Rural Utilities Service

Farm Service Agency

7 CFR Part 1970

RIN 0572-AC44

Rural Development Environmental Regulation for Rural Infrastructure Projects

AGENCY: Rural Business-Cooperative Service, Rural Housing Service, Rural Utilities Service, Farm Service Agency, USDA.

ACTION: Proposed rule.

SUMMARY: The United States Department of Agriculture (USDA) Rural Development (RD), comprised of the Rural Business-Cooperative Service (RBS), Rural Housing Service (RHS), and Rural Utilities Service (RUS), hereafter referred to as the Agency, proposes amending the Agency's Environmental Policies and Procedures regulation to allow the Agency Administrators limited flexibility to obligate federal funds for infrastructure projects prior to completion of the environmental review while ensuring full compliance with National Environmental Policy Act (NEPA) procedures prior to project construction and disbursement of funding. The proposed change will allow RD to more fully meet the Administration's goals to speed the initiation of infrastructure projects and encourage planned community economic development without additional cost to taxpayers or change to environmental review requirements.

DATE: Electronic and written comments must be received on or before December 24, 2018.

ADDRESSES: Submit your comments on this rule by any of the following methods:

• Federal eRulemaking Portal: Go to http://www.regulations.gov and, in the lower “Search Regulations and Federal Actions” box, select “Rural Utilities Service” from the agency drop-down menu, then click on “Submit.” In the Docket ID column, select RUS-18-AGENCY-0005 to submit or view public comments and to view supporting and related materials available electronically. Information on using Regulations.gov, including instructions for accessing documents, submitting comments, and viewing the docket after the close of the comment period, is available through the site's “User Tips” link.

• Postal Mail/Commercial Delivery: Please send your comment addressed to Michele Brooks, Rural Development Innovation Center, Regulations Team Lead, U.S. Department of Agriculture, 1400 Independence Ave. SW, Stop 1522, Room 1562, Washington, DC 20250. Please state that your comment refers to Docket No. RUS-18-AGENCY-0005.

Other Information: Additional information about Rural Development and its programs is available on the internet at https://www.usda.gov/topics/rural.

FOR FURTHER INFORMATION CONTACT: Kellie McGinness Kubena, Director, Engineering and Environmental Staff, Rural Utilities Service, USDA Rural Development, 1400 Independence Ave. SW, Mail Stop 1571, Room 2242, Washington, DC 20250-1571, Phone: 202-720-1649.

SUPPLEMENTARY INFORMATION: In the rules section of this issue of the Federal Register, Rural Development is concurrently publishing this action as a direct final rule without prior proposal because the Agency views this as a non-controversial action and anticipates no adverse comments. The language in the direct final rule will also serve as the language for this proposed rule. See the SUPPLEMENTARY INFORMATION provided in the direct final rule for the applicable SUPPLEMENTARY INFORMATION on this action. If no adverse comments are received in response to the direct final rule, no further action will be taken on this proposed rule and the action will become effective at the time specified in the direct final rule. If the Agency receives adverse comments, a timely document will be published withdrawing the direct final rule and all public comments received will be addressed in a subsequent final rule based on this action.

Dated: November 9, 2018.
Anne C. Hazlett,
Assistant to the Secretary, Rural Development.
Bill Northey,
Under Secretary, Farm Production and Conservation.

[FR Doc. 2018-25522 Filed 11-21-18; 8:45 am]

BILLING CODE P